NUCLEAR REGULATORY COMMISSION

[NRC-2021-0112]

Fuel Qualification for Advanced Reactors

AGENCY: Nuclear Regulatory Commission.

ACTION: Draft NUREG; request for comment.

SUMMARY: The U.S. Nuclear Regulatory Commission (NRC) is issuing for public comment a draft NUREG, NUREG-2246, “Fuel Qualification for Advanced Reactors.” The purpose of this NUREG report is to provide a fuel qualification assessment framework for use by applicants. Specifically, the framework provides objective criteria, derived from regulatory requirements, that when satisfied, would support regulatory findings for licensing.

DATES: Submit comments by August 30, 2021. Comments received after this date will be considered if it is practical to do so, but the Commission is able to ensure consideration only for comments received before this date.

ADDRESSES: You may submit comments by any of the following methods; however, the NRC encourages electronic comment submission through the Federal Rulemaking website:

• Federal Rulemaking Website: Go to https://www.regulations.gov and search for Docket ID NRC-2021-0112. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Timothy Drzewiecki, telephone: 301-415-5184, email: Timothy.Drzewiecki@nrc.gov and Jordan Hoellman, telephone: 301-415-5481, email: Jordan.Hoellman2@nrc.gov. Both are staff of the Office of Nuclear Reactor Regulation, U.S. Nuclear Regulatory Commission, Washington, DC 20555-0001.

SUPPLEMENTARY INFORMATION:

I. Obtaining Information and Submitting Comments

A. Obtaining Information

Please refer to Docket ID NRC-2021-0112 when contacting the NRC about the availability of information for this action. You may obtain publicly available information related to this action by any of the following methods:

• Federal Rulemaking Website: Go to https://www.regulations.gov and search for Docket ID NRC-2021-0112.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft NUREG, NUREG-2246, “Fuel Qualification for Advanced Reactors” is available in ADAMS under Accession No. ML21168A063.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2021-1112 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Proposed advanced reactor designs use fuel designs and operating environments (e.g., neutron energy spectra, fuel temperatures, neighboring materials) that differ from the large experience base available for traditional light-water reactor fuel. The purpose of this report is to identify criteria that will be useful for advanced reactor designs through an assessment framework that would support regulatory findings associated with nuclear fuel qualification. The report begins by examining the regulatory basis and related guidance applicable to fuel qualification, noting that the role of nuclear fuel in the protection against the release of radioactivity for a nuclear facility depends heavily on the reactor design. The report considers the use of accelerated fuel qualification techniques and lead test specimen programs that may shorten the timeline for qualifying fuel for use in a nuclear reactor at the desired parameters (e.g., burnup). The assessment framework particularly emphasizes the identification of key fuel manufacturing parameters, the specification of a fuel performance envelope to inform testing requirements, the use of evaluation models in the fuel qualification process, and the assessment of the experimental data used to develop and validate evaluation models and empirical safety criteria.

Dated: June 25, 2021.
For the Nuclear Regulatory Commission.
John P. Segala,
Chief, Advanced Reactor Policy Branch, Division of Advanced Reactors and Non-Power Production and Utilization Facilities, Office of Nuclear Reactor Regulation.

[FR Doc. 2021-13955 Filed 6-29-21; 8:45 am]

BILLING CODE 7590-01-P